DEPARTMENT OF VETERANS AFFAIRS

[OMB Control No. 2900-0657]

Agency Information Collection Activity: Conflicting Interests Certification for Proprietary Schools

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

DATES: Written comments and recommendations on the proposed collection of information should be received on or before February 12, 2024.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-0657” in any correspondence. During the comment period, comments may be viewed online through FDMS.

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-0657” in any correspondence.

SUPPLEMENTARY INFORMATION: Under the PRA of 1995, Federal agencies must obtain approval from the Office of Management and Budget (OMB) for each collection of information they conduct or sponsor. This request for comment is being made pursuant to section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Conflicting Interests Certification for Proprietary Schools, VA Form 22-1919.

OMB Control Number: 2900-0657.

Type of Review: Revision of a currently approved collection.

Abstract: The Department of Veterans Affairs (VA) is authorized to pay education benefits to Veterans and other eligible persons pursuing approved programs of education under chapters 30, 31, 32, 33, and 35 of title 38, U.S.C., and chapter 1606 of title 10, U.S.C., sections 903 of Public Law 96-342, the National Call to Service provision of Public Law 107-314, and the Omnibus Diplomatic Security and Antiterrorism Act of 1986.

Schools are required to submit information necessary to determine if their programs of training are approved for the payment of VA educational assistance. This specified information is submitted either to VA or to the State Approving Agency (SAA) having jurisdiction over that school. Certain schools are considered “proprietary” schools. A proprietary educational institution, as defined in 38 Code of Federal Regulations (CFR) 21.4200(z), is a private institution legally authorized to offer a program of education in the state where the institution is physically located. Section 3683 of title 38, U.S.C., and sections of 38 CFR establish conflict of interest restrictions related to proprietary schools. The VA Form 22-1919 is the instrument VA has implemented to address these restrictions.

(a) VA Form 22-1919 is only used to collect information on two issues:

(i) Section 3683 of title 38, U.S.C., prohibits employees of VA and the SAA from owning any interest in an educational institution operated for-profit. In addition, the law prohibits VA or SAA employees from receiving any wages, salary, dividends, profits, or gifts from private for-profit schools in which an eligible person is pursuing a program of education under an educational assistance program administered by VA. In addition, the law prohibits VA employees from receiving any services from these schools. These provisions may be waived if VA determines that no detriment will result to the government, or to Veterans or eligible persons enrolled at that private for-profit school. Item 1 of VA Form 22-1919 collects the name and title of affected VA and SAA employees known by the President (or Chief Administrative Official) of the school, as well as a description of these employees' association with that school.

(ii) Sections 21.4202(c), 21.5200(c), 21.7122(e)(6), and 21.7622(f)(4)(iv) of title 38 of the CFR prohibit the approval of educational assistance from VA for the enrollment of a Veteran or eligible person in any proprietary school where the trainee is an official authorized to sign certifications of enrollment. Item 2 of VA Form 22-1919 collects the following information for each certifying official, owner, or officer who receives VA educational assistance based on an enrollment in that proprietary school: the name and title of these employees; VA file numbers; and dates of enrollment at the proprietary school.

(b) VA only collects this information at the time one (or more) of these events occurs:

(i) The initial approval of a program or course at a proprietary for-profit school;

(ii) Any change of ownership of the school (either reported by the school or found upon review of a school's records during VA's compliance survey);

(iii) A change in proprietary status (from non-proprietary to proprietary, or from non-profit to profit status). When the SAA, or VA acting as the SAA, visits the school in connection with the school's request for approval of its program(s), the representative has either the school's President or chief administrative official sign VA Form 22-1919. VA's Education Liaison Representative (ELR) will associate the completed VA Form 22-1919 with the other documentation compiled for approval of the school's program(s) and will retain this information in the approval folder. The approval folder is retained until such time as the SAA or VA withdraws approval of all courses at the school. All information in the approval folder is then destroyed according to established record control schedules.

Affected Public: Institutions of Higher Learning.

Estimated Annual Burden: 39 hours.

Estimated Average Burden Time per Respondent: 10 minutes.

Frequency of Response: Occasional.

Estimated Number of Respondents: 236.

Authority: 38 U.S.C. 3683; 38 CFR 21.4202(c); 21.5200(c); 21.7122(e)(6); and 21.7622(f)(4)(iv).

By direction of the Secretary.
Maribel Aponte,
VA PRA Clearance Officer, Office of Enterprise and Integration/Data Governance Analytics, Department of Veterans Affairs.

[FR Doc. 2023-27444 Filed 12-13-23; 8:45 am]

BILLING CODE 8320-01-P